DEPARTMENT OF THE INTERIOR

National Park Service

[NPS-WASO-NAGPRA-18015;PPWOCRADN0-PCU00RP14.R50000]

Notice of Inventory Completion: U.S. Department of the Interior, National Park Service, Big Cypress National Preserve, Ochopee, FL

AGENCY: National Park Service, Interior.

ACTION: Notice.

SUMMARY: The U.S. Department of the Interior, National Park Service, Big Cypress National Preserve, has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Big Cypress National Preserve. If no additional requestors come forward, transfer of control of the human remains to the Indian tribes or Native Hawaiian organizations stated in this notice may proceed.

DATES: Representatives of any Indian tribe or Native Hawaiian organization not identified in this notice that wish to request transfer of control of these human remains should submit a written request with information in support of the request to Big Cypress National Preserve at the address in this notice by May 28, 2015.

ADDRESSES: J.D. Lee, Superintendent, Big Cypress National Preserve, 33110 Tamiami Trail East, Ochopee, FL 34141, telephone (239) 695-1103, email j_d_lee@nps.gov.

SUPPLEMENTARY INFORMATION: Notice is here given in accordance with the Native American Graves Protection and Repatriation Act (NAGPRA), 25 U.S.C. 3003, of the completion of an inventory of human remains under the control of the U.S. Department of the Interior, National Park Service, Big Cypress National Preserve, Ochopee, FL. The human remains were removed from Big Cypress National Preserve, Collier and Dade Counties, FL.

This notice is published as part of the National Park Service's administrative responsibilities under NAGPRA, 25 U.S.C. 3003(d)(3) and 43 CFR 10.11(d). The determinations in this notice are the sole responsibility of the Superintendent, Big Cypress National Preserve.

Consultation

A detailed assessment of the human remains was made by Big Cypress National Preserve professional staff in consultation with representatives of the Miccosukee Tribe of Indians and the Seminole Tribe of Florida (previously listed as the Seminole Tribe of Florida (Dania, Big Cypress, Brighton, Hollywood & Tampa Reservations)).

History and Description of the Remains

At an unknown date, human remains representing, at minimum, two individuals were removed from Panther Mound in Collier County, FL. The remains were removed by a visitor before the establishment of the park. In 1999, the visitor donated the remains to the park. Panther Mound contains material from the Glades II-III (AD 750-1700) and Seminole III (AD 1900-1940) periods. No known individuals were identified. No associated funerary objects are present.

At an unknown date between 1977 and 1981, human remains representing, at minimum, one individual were removed from site 8CR493 in Collier County, FL, which dates to the Late Archaic (3000-1000 BC). The remains were removed from a posthole test on the south edge of the site during a park site survey. No known individuals were identified. No associated funerary objects are present.

In 1977, human remains representing, at minimum, one individual were removed from Hinson Mounds in Collier County, FL. The remains were removed from several spoil piles from the upper levels of Mound A or B during a park site survey. Hinson Mounds contains material from the Glades I (late) to Glades III A period (AD 500-1400). No known individuals were identified. No associated funerary objects are present.

In 1978, human remains representing, at minimum, five individuals were removed from East Crossing Mound in Collier County, FL, which dates to Late Glades II-III (AD 1100-1700). The remains were recovered during a site survey from a shallow test pit previously dug by looters. No known individuals were identified. No associated funerary objects are present.

In 1978, human remains representing, at minimum, one individual were removed from the Komara site in Collier County, FL, which dates to an indeterminate prehistoric period. The remains were removed from a probe test of a sand mound. No known individuals were identified. No associated funerary objects are present.

In 1978, human remains representing, at minimum, one individual were removed from the Orange Blossom site in Collier County, FL, which dates to an indeterminate prehistoric period. The remains were removed from the root spoil of an overturned tree during a site survey. No known individuals were identified. No associated funerary objects are present.

In 1978, human remains representing, at minimum, one individual, were removed from the Big Daddy site in Collier County, FL, which dates to an indeterminate prehistoric period. The remains were removed from a test pit during an excavation of the site. No known individuals were identified. No associated funerary objects are present.

In 1981, human remains representing, at minimum, two individuals were removed from Bear Island Mound in Collier County, FL, which dates to an indeterminate prehistoric period. The remains were removed from test pits excavated during a magnetometer survey. No known individuals were identified. No associated funerary objects are present.

Cultural affiliation of the human remains described above could not be determined due to uncertain burial provenience, lack of culturally affiliated historic artifacts, and/or the antiquity of the remains.

Determinations Made by Big Cypress National Preserve

Officials of Big Cypress National Preserve have determined that:

• Pursuant to 25 U.S.C. 3001(9), the human remains described in this notice are Native American based on provenience within known Native American sites and the antiquity of the remains.

• Pursuant to 25 U.S.C. 3001(9), the human remains described in this notice represent the physical remains of 14 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Miccosukee Tribe of Indians and the Seminole Tribe of Florida (previously listed as the Seminole Tribe of Florida (Dania, Big Cypress, Brighton, Hollywood & Tampa Reservations)).

• Treaties, Acts of Congress, or Executive Orders, indicate that the land from which the Native American human remains were removed is the aboriginal land of the Miccosukee Tribe of Indians and the Seminole Tribe of Florida (previously listed as the Seminole Tribe of Florida (Dania, Big Cypress, Brighton, Hollywood & Tampa Reservations)).

• Pursuant to 43 CFR 10.11(c)(1), the disposition of the human remains may be to the Miccosukee Tribe of Indians and the Seminole Tribe of Florida (previously listed as the Seminole Tribe of Florida (Dania, Big Cypress, Brighton, Hollywood & Tampa Reservations)).

Additional Requestors and Disposition

Representatives of any Indian tribe or Native Hawaiian organization not identified in this notice that wish to request transfer of control of these human remains should submit a written request with information in support of the request to J.D. Lee, Superintendent, Big Cypress National Preserve, 33110 Tamiami Trail East, Ochopee, FL 34141, telephone (239) 695-1103, email j_d_lee@nps.gov, by May 28, 2015. After that date, if no additional requestors have come forward, transfer of control of the human remains to the Miccosukee Tribe of Indians and the Seminole Tribe of Florida (previously listed as the Seminole Tribe of Florida (Dania, Big Cypress, Brighton, Hollywood & Tampa Reservations)) may proceed.

Big Cypress National Preserve is responsible for notifying the Miccosukee Tribe of Indians and the Seminole Tribe of Florida (previously listed as the Seminole Tribe of Florida (Dania, Big Cypress, Brighton, Hollywood & Tampa Reservations)) that this notice has been published.

Dated: March 26, 2015.
Mariah Soriano,
Acting Manager, National NAGPRA Program.

[FR Doc. 2015-09940 Filed 4-27-15; 8:45 am]

BILLING CODE 4312-50-P